DEPARTMENT OF HEALTH AND HUMAN SERVICES

Substance Abuse and Mental Health Services Administration

Center for Substance Abuse Prevention; Notice of Meeting

Pursuant to Public Law 92-463, notice is hereby given of the Teleconference meeting of the Substance Abuse and Mental Health Services Administration (SAMHSA) Center for Substance Abuse Prevention (CSAP) National Advisory Council in July 2003.

The agenda will include the review, discussion, and evaluation of individual grant applications. Therefore the Teleconference meeting will be closed to the public as determined by the Administrator, SAMHSA, in accordance with Title 5 U.S.C. 552b(c)(6) and 5 U.S.C. App.2, 10(d).

A roster of committee members and substantive program information may be obtained from Carol Watkins, Executive Secretary, Rockwall II Building, Suite 900, 5600 Fishers Lane, Rockville, Maryland 20857, Telephone: (301) 443-9542.

Committee Name: SAMHSA Center for Substance Abuse Prevention National Advisory Council.

Meeting Dates: Monday, July 21, 2003, 3-5 p.m. (Closed Session).

Meeting Place: Center for Substance Abuse Prevention, 5515 Security Lane, Rockwall II Building, Conference Room I, Room 900, Rockville, Maryland, Telephone (301) 443-0365.

Contact: Carol D. Watkins, Executive Secretary, 5600 Fishers Lane, Rockwall II Building, Suite 900, Rockville, Maryland 20857, Telephone: (301) 443-9542.

This notice is being published less than 15 days prior to the meeting due to the urgent need to meet timing limitations imposed by the review and funding cycle.

Dated: July 16, 2003.
Toian Vaughn,
Executive Secretary/Committee Management Officer, Substance Abuse and Mental Health Services Administration.

[FR Doc. 03-18502 Filed 7-21-03; 8:45 am]

BILLING CODE 4162-20-P